DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Manufacturing Extension Partnership (MEP) Management Information Reporting System.

OMB Control Number: 0693-0032.

Form Number(s): None.

Type of Request: Regular submission.

Burden Hours: 7,080.

Number of Respondents: 59.

Average Hours per Response: 120.

Needs and Uses: Sponsored by NIST, the Manufacturing Extension Partnership (MEP) is a national network of locally-based manufacturing extension centers working with small manufacturers to assist them in improving their productivity, profitability, and enhance their economic competitiveness. The information collected will provide the MEP with information regarding MEP Center performance regarding the delivery of technology, and business solutions to U.S.-based manufacturers. The collected information will assist in determining the performance of the MEP Centers at both local and national levels, provide information critical to monitoring and reporting on MEP programmatic performance, and assist management in policy decisions. Responses to the collection of information are mandatory per the regulations governing the operation of the MEP Program (15 CFR parts 290, 291, 292, and H.R. 1274—section 2). The information collected will include center inputs and activities including services delivered, clients served, center staff, quarterly expenses and revenues, partners and affiliates, strategic plan, operating plans, and client success stories. No confidentiality for information submitted is promised or provided.

Affected Public: Business or other for-profit organizations.

Frequency: Quarterly, annually, and biennially.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, OMB Desk Officer, FAX number (202) 395-5167 or via the Internet at Jasmeet_K._Seehra@omb.eop.gov.

Dated: June 24, 2009.
Gwellnar Banks,
Management Analyst, Office of the Chief Information Officer.

[FR Doc. E9-15320 Filed 6-26-09; 8:45 am]

BILLING CODE 3510-13-P